DEPARTMENT OF TRANSPORTATION

Federal Motor Carrier Safety Administration

[Docket No. FMCSA-2005-23238]

Qualification of Drivers; Exemption Applications; Vision

AGENCY: Federal Motor Carrier Safety Administration (FMCSA), DOT.

ACTION: Notice of applications for exemptions; request for comments.

SUMMARY: FMCSA announces receipt of applications from 14 individuals for an exemption from the vision requirement in the Federal Motor Carrier Safety Regulations. If granted, the exemptions would enable these individuals to qualify as drivers of commercial motor vehicles (CMVs) in interstate commerce without meeting the Federal vision standard.

DATES: Comments must be received on or before March 2, 2006.

ADDRESSES: You may submit comments identified by DOT Docket Management System (DMS) Docket Number FMCSA-2005-23238 using any of the following methods:

• Web site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments online.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@fmcsa.dot.gov, FMCSA, Department of Transportation, 400 Seventh Street, SW., Washington, DC 20590-0001. Office hours are from 8 a.m. to 5 p.m., e.s.t., Monday through Friday, except Federal holidays.

SUPPLEMENTARY INFORMATION:

Background

Under 49 U.S.C. 31315 and 31136(e), FMCSA may grant an exemption for a 2-year period if it finds “such exemption would likely achieve a level of safety that is equivalent to, or greater than, the level that would be achieved absent such exemption.” FMCSA can renew exemptions at the end of each 2-year period. The 14 individuals listed in this notice each have requested an exemption from the vision requirement in 49 CFR 391.41(b)(10), which applies to drivers of CMVs in interstate commerce. Accordingly, the agency will evaluate the qualifications of each applicant to determine whether granting the exemption will achieve the required level of safety mandated by statute.

Qualifications of Applicants

Nick D. Bacon

Mr. Bacon, 29, has had refractive amblyopia strabismus in his left eye since childhood. The best corrected visual acuity in his right eye is 20/20 and in the left, 20/200. His ophthalmologist examined him in 2005 and noted, “In my opinion, Mr. Bacon has sufficient vision including visual field, to perform the driving tasks required to operate a commercial motor vehicle.” Mr. Bacon reported that he has driven straight trucks for 6 years, accumulating 120,000 miles. He holds a Class B CDL from Kentucky. His driving record for the last 3 years shows no crashes or convictions for moving violations in a CMV.

Donald G. Bostic, Jr.

Mr. Bostic, 47, has had age related macular degeneration in his right eye for 23 years. The best corrected visual acuity in his right eye is 20/200 and in the left, 20/20. Following an examination in 2005, his ophthalmologist noted, “In my opinion, Mr. Bostic has sufficient vision to perform the driving tasks required to operate a commercial vehicle.” Mr. Bostic reported that he has driven straight trucks for 13 years, accumulating 780,000 miles, and tractor-trailer combinations for 2.5 years, accumulating 75,000 miles. He holds a Class A CDL from West Virginia. His driving record for the last 3 years shows no crashes or convictions for moving violations in a CMV.

Johnny W. Bradford

Mr. Bradford, 57, has a prosthetic right eye due to trauma he sustained in 1980. The best corrected visual acuity in his left eye is 20/20. His ophthalmologist examined him in 2005 and noted, “In my opinion, Johnny is sufficient with his eye sight and glasses to drive a commercial vehicle.” Mr. Bradford reported that he has driven tractor-trailer combinations for 3 years, accumulating 85,500 miles. He holds a Class A CDL from Kentucky. His driving record for the last 3 years shows no crashes or convictions for moving violations in a CMV.

Aaron C. Buck

Mr. Buck, 36, has a prosthetic left eye due to trauma he sustained in 1979. The visual acuity in his right eye is 20/20. Following an examination in 2005, his optometrist noted, “I believe, Mr. Aaron Buck has sufficient vision to perform the driving tasks to operate a commercial vehicle.” Mr. Buck reported that he has driven straight trucks for 8 years, accumulating 280,000 miles. He holds a Class 1 operator's license from Vermont, which qualifies him to drive all non-commercial motor vehicles except motorcycles and school buses. His driving record for the last 3 years shows no crashes or convictions for moving violations in a CMV.

James C. Davis

Mr. Davis, 63, has had stable loss of vision in his left eye due to an unknown cause since 1981. The best corrected visual acuity in his right eye is 20/20 and in the left, 20/400. Following an examination in 2005, his ophthalmologist noted, “Given that Mr. Davis has a visual acuity of 20/20 with a normal full vision field in the right, it appears that Mr. Davis has significant vision to perform the driving tasks required to operate a commercial vehicle.” Mr. Davis reported that he has driven straight trucks for 40 years, accumulating 600,000 miles, and tractor-trailer combinations for 27 years, accumulating 270,000 miles. He holds a Class C operator's license from Florida. His driving record for the last 3 years shows no crashes or convictions for moving violations in a CMV.

James H. Eldridge Jr.

Mr. Eldridge, 63, has had chorodial revascularization in his right eye since 1997. The best corrected visual acuity in his right eye is count-finger-vision at 5 feet and in the left, 20/25. His optometrist examined him in 2005 and noted, “Despite the central vision loss in the right eye, I feel he has adequate vision to operate a commercial vehicle.” Mr. Eldridge reported that he has driven straight trucks for 45 years, accumulating 1.3 million miles and tractor-trailer combinations for 15 years, accumulating 375,000 miles. He holds a Class A CDL from Ohio. His driving record for the last 3 years shows no crashes or convictions for moving violations in a CMV.

Michael G. Gould

Mr. Gould, 49, has had angle recession glaucoma in his right eye since 2000. The best corrected visual acuity in his right eye is 20/80 and in the left, 20/20. Following an examination in 2005, his optometrist noted, “Mr. Gould has a full 120 degree field in the left eye and a nearly full 110 depth field in the right eye. I believe that represents excellent vision for Mr. Gould and should cause no problem for him operating a commercial motor vehicle.” Mr. Gould reported that he has driven straight trucks for 21 years, accumulating 525,000 miles. He holds a Class C chauffer license from Michigan. His driving record for the last 3 years shows no crashes or convictions for moving violations in a CMV.

Albert L. Gschwind

Mr. Gschwind, 55, has an idiopathic subfoveal subretinal neovascular membrane in his left eye since 1999. The best corrected visual acuity in his right eye is 20/20 and in his left eye, 20/50. Following an examination in 2005, his ophthalmologist noted, “I feel that based on his current visual function and examination, that he has sufficient vision to perform the driving task required to operate a commercial vehicle.” Mr. Gschwind reported that he has driven straight trucks for 34 years, accumulating 272,000 miles, and tractor-trailer combinations for 33 years, accumulating 1.4 million miles. He holds a Class A CDL from Wisconsin. His driving record for the last 3 years shows no crashes or convictions for moving violations in a CMV.

Bruce A. Homan

Mr. Homan, 50, has had central vision loss in his left eye since 1998. The best visual acuity in his right eye is 20/25 and in the left, 20/400. His optometrist examined him in 2005 and noted, “It is my medical opinion that Mr. Homan can perform the driving tasks required to operate a commercial vehicle as he has been doing.” Mr. Homan reported that he has driven tractor-trailer combinations for 20 years, accumulating 600,000 miles. He holds a Class A CDL from Washington. His driving record for the last 3 years shows no crashes and one conviction for a moving violation, speeding in a CMV. He exceeded the speed limit by 12 mph.

Matthew J. Konecki

Mr. Konecki, 37, has had anisometropic amblyopia in his left eye since birth. The best corrected visual acuity in his right eye is 20/15-2 and in the left, 20/200. His ophthalmologist examined him in 2005 and noted, “It is my opinion that Mr. Konecki has sufficient vision to perform the driving tasks required to operate a commercial vehicle.” Mr. Konecki reported that he has driven straight trucks for 7 years, accumulating 91,000 miles. He holds a Class A CDL from Montana. His driving record for the last 3 years shows no crashes or convictions for moving violations in a CMV.

Rick P. Moreno

Mr. Moreno, 42, has a macular hole in his right eye due to an injury he sustained in 1987. The best corrected visual acuity in his right eye is 20/200 and in the left, 20/20. Following an examination in 2005, his optometrist noted, “In my medical opinion, I feel Rick has sufficient vision to perform the driving tasks required to operate a commercial vehicle.” Mr. Moreno reported that he has driven straight trucks for 1 year, accumulating 24,000 miles and tractor-trailer combinations for 3 years, accumulating 2.8 million miles. He holds a Class A CDL from Washington. His driving record for the last 3 years shows no crashes or convictions for moving violations in a CMV.

Roy J. Oltman

Mr. Oltman, 47, is blind in the left eye due to trauma he sustained at the age of 7. The best corrected visual acuity in his right eye is 20/20. His ophthalmologist examined him in 2005 and noted, “From a visual standpoint, I see no limitations for Mr. Oltman. As I explained to him, I do not know all activities needed for operating a commercial vehicle, but for a person with only one eye, his visual function is excellent in the right eye.” Mr. Oltman reported that he has driven straight trucks for 5 years, accumulating 10,000 miles and buses for 7 years, accumulating 10,500 miles. He holds a Class A CDL from Illinois. His driving record for the last 3 years shows no crashes or convictions for a moving violation in a CMV.

Monte L. Purciful

Mr. Purciful, 53, has a cataract in his right eye due to a traumatic injury that occurred at age 11. The best corrected visual acuity in his right eye is hand motion and in the left, 20/20. His ophthalmologist examined him in 2005 and noted, “In my professional opinion, Mr. Purciful has adequate vision to safely operate a commercial vehicle.” Mr. Purciful reported that he has driven straight trucks for 36 years, accumulating 108,000 miles and tractor-trailer combinations for 2 years, accumulating 2,000 miles. He holds a Class C operator's license from Georgia. His driving record for the last 3 years shows no crashes or convictions for moving violations in a CMV.

Bernard J. Wood

Mr. Wood, 59, has a prosthetic right eye due to a traumatic injury at age 2. The best corrected visual acuity in his left eye is 20/15-1. Following an examination in 2005, his ophthalmologist noted, “In my opinion, Mr. Wood is capable and qualified to operate a commercial vehicle for interstate travel.” Mr. Wood reported that he has driven straight trucks for 10 years, accumulating 400,000 miles. He holds a Class A CDL from Wisconsin. His driving record for the last 3 years shows one crash, for which he was not cited, for violating any traffic laws and no convictions for moving violations in a CMV.

Request for Comments

In accordance with 49 U.S.C. 31315 and 31136(e), FMCSA requests public comment from all interested persons on the exemption petitions described in this notice. The agency will consider all comments received before the close of business March 2, 2006. Comments will be available for examination in the docket at the location listed under the ADDRESSES section of this notice. The agency will file comments received after the comment closing date in the public docket, and will consider them to the extent practicable. In addition to late comments, FMCSA will also continue to file, in the public docket, relevant information that becomes available after the comment closing date. Interested persons should monitor the public docket for new material.

Issued on: January 23, 2006.
Rose A. McMurray,
Associate Administrator, Policy and Program Development.

[FR Doc. E6-1154 Filed 1-30-06; 8:45 am]

BILLING CODE 4910-EX-P